DEPARTMENT OF HOMELAND SECURITY

Coast Guard

33 CFR Part 27

[USCG-2003-15486]

RIN 1625-AA73

Civil Monetary Penalties—Adjustments for Inflation; Correction

AGENCY: Coast Guard, DHS.

ACTION: Correcting amendments.

SUMMARY: This document contains corrections to the final regulations published in the Federal Register on December 23, 2003. The regulations related to inflation adjustments in fines and other civil monetary penalties that are mandated by the Federal Civil Penalties Inflation Adjustment Act of 1990, as amended.

DATES: Effective on January 3, 2005.

FOR FURTHER INFORMATION CONTACT: Mr. Robert Spears, Office of Standards Evaluation and Development, Coast Guard, telephone 202-267-1099.

SUPPLEMENTARY INFORMATION:

Background

The Coast Guard published a final rule in the Federal Register of December 23, 2003 (68 FR 74189). The final rule was authorized by the Federal Civil Penalties Inflation Adjustment Act of 1990, as amended (“the statute”; see 28 U.S.C. 2641 note), and promulgated under a “good cause” exception to the Administrative Procedure Act, 5 U.S.C. 553(b)(3)(B), because the Coast Guard found good cause to dispense with the usual notice and comment requirements due to the lack of discretion rulemakers can exercise under the statute. One of the amendments made by the final rule revised 33 CFR 27.3 and its accompanying Table 1, “Civil Monetary Penalty Inflation Adjustments.”

Need for Correction

As published, the final rule inadvertently contained some potentially misleading language and omitted certain fines or penalties that, pursuant to the statute, required inclusion.

List of Subjects in 33 CFR Part 27

Marine safety, Oil pollution, Penalties, Vessels, Waterways.

Accordingly, 33 CFR part 27 is corrected by making the following correcting amendments:

PART 27—CIVIL MONETARY PENALTIES ADMINISTERED BY THE COAST GUARD

1. The authority citation for part 27 continues to read as follows:

Authority: Secs. 1-6, Pub. L. 101-410, 104 Stat. 890, as amended by Sec. 31001(s)(1), Pub. L. 104-134, 110 Stat. 1321 (28 U.S.C. 2461 note); Department of Homeland Security Delegation No. 0170.1, sec. 2 (106).

§ 27.1 [Removed]

2. Remove § 27.1.

3. Revise § 27.3 to read as follows:

§ 27.3 Penalty Table.

Table 1 lists sections of the United States Code that authorize civil monetary penalties for laws administered by the Coast Guard. These penalties are assessable in either civil judicial or administrative proceedings. Table 1 is periodically amended to reflect relevant changes in the United States Code and to show adjustments in penalty amounts that are mandated by the Federal Civil Penalties Inflation Adjustment Act of 1990, as amended, but Table 1 will not reflect statutory changes that may take effect subsequent to the most recent amendment of Table 1. In any case of conflict between Table 1 and the current provisions of the United States Code or another Federal statute, the current Code or statutory provision is controlling.

Table 1.—Civil Monetary Penalties
U.S. Code citation | Civil monetary penalty description | Statutory penalty ($) | Inflation adjustments per 1990 Act as amended ($)
14 U.S.C. 88(c) | Saving Life and Property | 5,000 | 6,500
14 U.S.C. 645(i) | Confidentiality of Medical Quality Assurance Records (first offense) | 3,000 | 3,300
14 U.S.C. 645(i) | Confidentiality of Medical Quality Assurance Records (subsequent offenses) | 20,000 | 27,000
16 U.S.C. 4711(g)(1) | Aquatic Nuisance Species in Waters of the United States | 25,000 | 27,500
19 U.S.C. 70 | Obstruction of Revenue Officers by Masters of Vessels | 2,000 | 2,200
19 U.S.C. 70 | Obstruction of Revenue Officers by Masters of Vessels—Minimum Penalty | 500 | 550
19 U.S.C. 1581(d) | Failure to Stop Vessel When Directed; Master, Owner, Operator or Person in Charge | 5,000 | (**)
19 U.S.C. 1581(d) | Failure to Stop Vessel When Directed; Master, Owner, Operator or Person in Charge—Minimum Penalty | 1,000 | (**)
33 U.S.C. 471 | Anchorage Ground/Harbor Regulations General | 100 | 110
33 U.S.C. 474 | Anchorage Ground/Harbor Regulations St. Mary's river | 200 | 220
33 U.S.C. 495(b) | Bridges/Failure to Comply with Regulations | * 5,000 | (***)
33 U.S.C. 499(c) | Bridges/Drawbridges | * 5,000 | (***)
33 U.S.C. 502(c) | Bridges/Failure to Alter Bridge Obstructing Navigation | * 5,000 | (***)
33 U.S.C. 533(b) | Bridges/Maintenance and Operation | * 5,000 | (***)
33 U.S.C. 1208(a) | Bridge to Bridge Communication; Master, Person in Charge or Pilot | 500 | 650
33 U.S.C. 1208(b) | Bridge to Bridge Communication; Vessel | 500 | 650
33 U.S.C. 1232(a) | PWSA Regulations | 25,000 | 32,500
33 U.S.C. 1236(b) | Vessel Navigation: Regattas or Marine Parades; Unlicensed Person in Charge | 5,000 | 6,500
33 U.S.C. 1236(c) | Vessel Navigation: Regattas or Marine Parades; Owner Onboard Vessel | 5,000 | 6,500
33 U.S.C. 1236(d) | Vessel Navigation: Regattas or Marine Parades; Other Persons | 2,500 | 2,750
33 U.S.C. 1321(b)(6)(B)(i) | Oil/Hazardous Substances: Discharges (Class I per violation) | 10,000 | 11,000
33 U.S.C. 1321(b)(6)(B)(i) | Oil/Hazardous Substances: Discharges (Class I total under paragraph) | 25,000 | 32,500
33 U.S.C. 1321(b)(6)(B)(ii) | Oil/Hazardous Substances: Discharges (Class II per day of violation) | 10,000 | 11,000
33 U.S.C. 1321(b)(6)(B)(ii) | Oil/Hazardous Substances: Discharges (Class II total under paragraph) | 125,000 | 157,500
33 U.S.C. 1321(b)(7)(A) | Oil/Hazardous Substances: Discharges (per day of violation) Judicial Assessment | 25,000 | 32,500
33 U.S.C. 1321(b)(7)(A) | Oil/Hazardous Substances: Discharges (per barrel of oil or unit discharged) Judicial Assessment | 1,000 | 1,100
33 U.S.C. 1321(b)(7)(B) | Oil/Hazardous Substances: Failure to Carry Out Removal/Comply With Order (Judicial Assessment) | 25,000 | 32,500
33 U.S.C. 1321(b)(7)(C) | Oil/Hazardous Substances: Failure to Comply with Regulation Issued Under 1321(j) (Judicial Assessment) | 25,000 | 32,500
33 U.S.C. 1321(b)(7)(D) | Oil/Hazardous Substances: Discharges, Gross Negligence (per barrel of oil or unit discharged) Judicial Assessment | 3,000 | 3,300
33 U.S.C. 1321(b)(7)(D) | Oil/Hazardous Substances: Discharges, Gross Negligence-Minimum Penalty (Judicial Assessment) | 100,000 | 110,000
33 U.S.C. 1322(j) | Marine Sanitation Devices; Operating | 2,000 | 2,200
33 U.S.C. 1322(j) | Marine Sanitation Devices; Sale or Manufacture | 5,000 | 6,500
33 U.S.C. 1517(a) | Deepwater Ports; Oil Discharge | 10,000 | 11,000
33 U.S.C. 1608(a) | International Navigation Rules; Operator | 5,000 | 6,500
33 U.S.C. 1608(b) | International Navigation Rules; Vessel | 5,000 | 6,500
33 U.S.C. 1908(b)(1) | Pollution from Ships; General | 25,000 | 32,500
33 U.S.C. 1908(b)(2) | Pollution from Ships; False Statement | 5,000 | 6,500
33 U.S.C. 2072(a) | Inland Navigation Rules; Operator | 5,000 | 6,500
33 U.S.C. 2072(b) | Inland Navigation Rules; Vessel | 5,000 | 6,500
33 U.S.C. 2609(a) | Shore Protection; General | 25,000 | 32,500
33 U.S.C. 2609(b) | Shore Protection; Operating Without Permit | 10,000 | 11,000
33 U.S.C. 2716a(a) | Oil Pollution Liability and Compensation | 25,000 | 32,500
42 U.S.C. 9609(a) | Hazardous Substances, Releases, Liability, Compensation (Class I) | 25,000 | 27,500
42 U.S.C. 9609(b) | Hazardous Substances, Releases, Liability, Compensation (Class II) | 25,000 | 27,500
42 U.S.C. 9609(b) | Hazardous Substances, Releases, Liability, Compensation (Class II subsequent offense) | 75,000 | 82,500
42 U.S.C. 9609(c) | Hazardous Substances, Releases, Liability, Compensation (Judicial Assessment) | 25,000 | 27,500
42 U.S.C. 9609(d) | Hazardous Substances, Releases, Liability, Compensation (Judicial Assessment subsequent offense) | 75,000 | 82,500
46 U.S.C. App 1505(a)(2) | Safe Containers for International Cargo | 5,000 | 6,500
46 U.S.C. App 1805(c)(2) | Suspension of Passenger Service | 50,000 | 60,000
46 U.S.C. 2110(e) | Vessel Inspection or Examination Fees | 5,000 | 6,500
46 U.S.C. 2115 | Alcohol and Dangerous Drug Testing | 5,000 | 5,500
46 U.S.C. 2302(a) | Negligent Operations: Recreational Vessels | 5,000 | (***)
46 U.S.C. 2302(a) | Negligent Operations: Other Vessels | 25,000 | (***)
46 U.S.C. 2302(c)(1) | Operating a Vessel While Under the Influence of Alcohol or a Dangerous Drug | 5,000 | 5,500
46 U.S.C. 2306(a)(4) | Vessel Reporting Requirements: Owner, Charterer, Managing Operator, or Agent | 5,000 | 6,500
46 U.S.C. 2306(b)(2) | Vessel Reporting Requirements: Master | 1,000 | 1,100
46 U.S.C. 3102(c)(1) | Immersion Suits | 5,000 | 6,500
46 U.S.C. 3302(i)(5) | Inspection Permit | 1,000 | 1,100
46 U.S.C. 3318(a) | Vessel Inspection; General | 5,000 | 6,500
46 U.S.C. 3318(g) | Vessel Inspection; Nautical School Vessel | 5,000 | 6,500
46 U.S.C. 3318(h) | Vessel Inspection; Failure to Give Notice IAW 3304(b) | 1,000 | 1,100
46 U.S.C. 3318(i) | Vessel Inspection; Failure to Give Notice IAW 3309(c) | 1,000 | 1,100
46 U.S.C. 3318(j)(1) | Vessel Inspection; Vessel ≥ 1600 Gross Tons | 10,000 | 11,000
46 U.S.C. 3318(j)(1) | Vessel Inspection; Vessel < 1600 Gross Tons | 2,000 | 2,200
46 U.S.C. 3318(k) | Vessel Inspection; Failure to Comply with 3311(b) | 10,000 | 11,000
46 U.S.C. 3318(l) | Vessel Inspection; Violation of 3318(b)-3318(f) | 5,000 | 6,500
46 U.S.C. 3502(e) | List/count of Passengers | 100 | 110
46 U.S.C. 3504(c) | Notification to Passengers | 10,000 | 11,000
46 U.S.C. 3504(c) | Notification to Passengers; Sale of Tickets | 500 | 650
46 U.S.C. 3506 | Copies of Laws on Passenger Vessels; Master | 200 | 220
46 U.S.C. 3718(a)(1) | Liquid Bulk/Dangerous Cargo | 25,000 | 32,500
46 U.S.C. 4106 | Uninspected Vessels | 5,000 | 6,500
46 U.S.C. 4311(b)(1) | Recreational Vessels (maximum for related series of violations) | 250,000 | (***)
46 U.S.C. 4311(b)(1) | Recreational Vessels; Violation of 4307(a) | 5,000 | (***)
46 U.S.C. 4311(c) | Recreational vessels | 1,000 | 1,100
46 U.S.C. 4507(a) | Uninspected Commercial Fishing Industry Vessels | 5,000 | 6,500
46 U.S.C. 4703 | Abandonment of Barges | 1,000 | 1,100
46 U.S.C. 5116(a) | Load Lines | 5,000 | 6,500
46 U.S.C. 5116(b) | Load Lines; Violation of 5112(a) | 10,000 | 11,000
46 U.S.C. 5116(c) | Load Lines; Violation of 5112(b) | 5,000 | 6,500
46 U.S.C. 6103(a) | Reporting Marine Casualties | 25,000 | 27,500
46 U.S.C. 6103(b) | Reporting Marine Casualties; Violation of 6104 | 5,000 | 6,500
46 U.S.C. 8101(e) | Manning of Inspected Vessels; Failure to Report Deficiency in Vessel Complement | 1,000 | 1,100
46 U.S.C. 8101(f) | Manning of Inspected Vessels | 10,000 | 11,000
46 U.S.C. 8101(g) | Manning of Inspected Vessels; Employing or Serving in Capacity not Licensed by USCG | 10,000 | 11,000
46 U.S.C. 8101(h) | Manning of Inspected Vessels; Freight Vessel < 100 GT, Small Passenger Vessel, or Sailing School Vessel | 1,000 | 1,100
46 U.S.C. 8102(a) | Watchmen on Passenger Vessels | 1,000 | 1,100
46 U.S.C. 8103(f) | Citizenship Requirements | 500 | 650
46 U.S.C. 8104(i) | Watches on Vessels; Violation of 8104(a) or (b) | 10,000 | 11,000
46 U.S.C. 8104(j) | Watches on Vessels; Violation of 8104(c), (d), (e), or (h) | 10,000 | 11,000
46 U.S.C. 8302(e) | Staff Department on Vessels | 100 | 110
46 U.S.C. 8304(d) | Officer's Competency Certificates | 100 | 110
46 U.S.C. 8502(e) | Coastwise Pilotage; Owner, Charterer, Managing Operator, Agent, Master or Individual in Charge | 10,000 | 11,000
46 U.S.C. 8502(f) | Coastwise Pilotage; Individual | 10,000 | 11,000
46 U.S.C. 8503 | Federal Pilots | 25,000 | 32,500
46 U.S.C. 8701(d) | Merchant Mariners Documents | 500 | 650
46 U.S.C. 8702(e) | Crew Requirements | 10,000 | 11,000
46 U.S.C. 8906 | Small Vessel Manning | 25,000 | 27,500
46 U.S.C. 9308(a) | Pilotage: Great Lakes; Owner, Charterer, Managing Operator, Agent, Master or Individual in Charge | 10,000 | 11,000
46 U.S.C. 9308(b) | Pilotage: Great Lakes; Individual | 10,000 | 11,000
46 U.S.C. 9308(c) | Pilotage: Great Lakes; Violation of 9303 | 10,000 | 11,000
46 U.S.C. 10104(b) | Failure to Report Sexual Offense | 5,000 | 6,500
46 U.S.C. 10314(a)(2) | Pay Advances to Seamen | 500 | 650
46 U.S.C. 10314(b) | Pay Advances to Seamen; Remuneration for Employment | 500 | 650
46 U.S.C. 10315(c) | Allotment to Seamen | 500 | 650
46 U.S.C. 10321 | Seamen Protection; General | 5,000 | 5,500
46 U.S.C. 10505(a)(2) | Coastwise Voyages: Advances | 5,000 | 5,500
46 U.S.C. 10505(b) | Coastwise Voyages: Advances; Remuneration for Employment | 5,000 | 5,500
46 U.S.C. 10508(b) | Coastwise Voyages: Seamen Protection; General | 5,000 | 5,500
46 U.S.C. 10711 | Effects of Deceased Seamen | 200 | 220
46 U.S.C. 10902(a)(2) | Complaints of Unfitness | 500 | 650
46 U.S.C. 10903(d) | Proceedings on Examination of Vessel | 100 | 110
46 U.S.C. 10907(b) | Permission to Make Complaint | 500 | 650
46 U.S.C. 11101(f) | Accommodations for Seamen | 500 | 650
46 U.S.C. 11102(b) | Medicine Chests on Vessels | 500 | 650
46 U.S.C. 11104(b) | Destitute Seamen | 100 | 110
46 U.S.C. 11105(c) | Wages on Discharge | 500 | 650
46 U.S.C. 11303(a) | Log Books; Master Failing to Maintain | 200 | 220
46 U.S.C. 11303(b) | Log Books; Master Failing to Make Entry | 200 | 220
46 U.S.C. 11303(c) | Log Books; Late Entry | 150 | 165
46 U.S.C. 11506 | Carrying of Sheath Knives | 50 | 65
46 U.S.C. 12122(a) | Vessel Documentation | 10,000 | 11,000
46 U.S.C. 12122(c) | Vessel Documentation; Fishery Endorsement | 100,000 | 110,000
46 U.S.C. 12309(b) | Numbering of Undocumented Vessels | 1,000 | 1,100
46 U.S.C. 12507(b) | Vessel Identification System | 10,000 | 11,000
46 U.S.C. 14701 | Measurement of Vessels | 20,000 | 27,000
46 U.S.C. 14702 | Measurement; False Statements | 20,000 | 27,000
46 U.S.C. 31309 | Commercial Instruments and Maritime Liens | 10,000 | 11,000
46 U.S.C. 31330(a)(2) | Commercial Instruments and Maritime Liens; Mortgagor | 10,000 | 11,000
46 U.S.C. 31330(b)(2) | Commercial Instruments and Maritime Liens; Violation of 31329 | 25,000 | 27,500
46 U.S.C. 70119 | Port Security | 25,000 | (***)
49 U.S.C. 5123(a)(1) | Hazardous Materials: Related to Vessels | 25,000 | 32,500
49 U.S.C. 5123(a)(1) | Hazardous Materials: Related to Vessels—Minimum Penalty | 250 | 275
* These penalties will increase in accordance with the statute to: $10,000 in 2005, $15,000 in 2006, $20,000 in 2007, and $25,000 in 2008 and thereafter.
** Enacted under the Tariff Act of 1930, exempt from inflation adjustments.
*** These penalties did not qualify for an adjustment under the rounding rules of the Act.

Dated: December 23, 2004.
T.H. Gilmour,
Rear Admiral, U.S. Coast Guard, Assistant Commandant for Marine Safety, Security and Environmental Protection.

[FR Doc. 04-28676 Filed 12-30-04; 8:45 am]

BILLING CODE 4910-15-P